CONSUMER PRODUCT SAFETY COMMISSION

Proposed Extension of Approval of Information Collection; Comment Request—Safety Standard for Cigarette Lighters

AGENCY: Consumer Product Safety Commission.

ACTION: Notice.

SUMMARY: As required by the Paperwork Reduction Act of 1995 (44 U.S.C. Chapter 35), the Consumer Product Safety Commission (CPSC or Commission) requests comments on a proposed request for an extension of approval of a collection of information from manufacturers and importers of disposable and novelty cigarette lighters. This collection of information consists of testing and recordkeeping requirements in certification regulations implementing the Safety Standard for Cigarette Lighters (16 CFR Part 1210). The Commission will consider all comments received in response to this notice before requesting an extension of approval of this collection of information from the Office of Management and Budget (OMB).

DATES: The Office of the Secretary must receive written comments not later than September 8, 2009.

ADDRESSES: Written comments should be captioned “Cigarette Lighters” and e-mailed to the Office of the Secretary at cpsc-os@cpsc.gov. Comments may also be sent by facsimile to (301) 504-0127, or by mail to the Office of the Secretary, Consumer Product Safety Commission, 4330 East-West Highway, Bethesda, Maryland 20814.

FOR FURTHER INFORMATION CONTACT: For information about the proposed collection of information call or write Linda Glatz, Division of Policy and Planning, Office of Information Technology and Technology Services, Consumer Product Safety Commission, 4330 East-West Highway, Bethesda, MD 20814; telephone: (301) 504-7671 or by e-mail to lglatz@cpsc.gov.

SUPPLEMENTARY INFORMATION: In 1993, the Commission issued the Safety Standard for Cigarette Lighters (16 CFR Part 1210) under provisions of the Consumer Product Safety Act (CPSA) (15 U.S.C. 2051 et seq.) to eliminate or reduce risks of death and burn injury from fires accidentally started by children playing with cigarette lighters. The standard contains performance requirements for disposable and novelty lighters that are intended to make cigarette lighters subject to the standard resist operation by children younger than five years of age.

A. Certification Requirements

Section 14(a) of the CPSA (15 U.S.C. 2063(a)) requires manufacturers, importers, and private labelers of a consumer product subject to a consumer product safety standard under the CPSA or similar rule, ban, standard, or regulation under any other act enforced by the Commission to issue a certificate stating that the product complies with all applicable rules, bans, standards or regulations. Section 14(a) of the CPSA also requires that the certificate of compliance must be based on a test of each product or upon a reasonable testing program and specify each such rule, ban, standard or regulation applicable to the product.

Section 14(b) of the CPSA (15 U.S.C. 2063(b)) authorizes the Commission to issue regulations to prescribe a reasonable testing program to support certificates of compliance with a consumer product safety standard under the CPSA or similar rule, ban, standard, or regulation under any other act enforced by the Commission. Section 16(b) of the CPSA (15 U.S.C 2065(b)) authorizes the Commission to issue rules to require that firms “establish and maintain” records to permit the Commission to determine compliance with rules issued under the authority of the CPSA.

The Commission has issued regulations prescribing requirements for a reasonable testing program to support certificates of compliance with the standard for cigarette lighters. These regulations require manufacturers and importers to submit a description of each model of lighter, results of surrogate qualification tests for compliance with the standard, and other information before the introduction of each model of lighter in commerce. These regulations also require manufacturers, importers, and private labelers of disposable and novelty lighters to establish and maintain records to demonstrate successful completion of all required tests to support the certificates of compliance that they issue. 16 CFR Part 1210, Subpart B.

The Commission uses the information compiled and maintained by manufacturers, importers, and private labelers of disposable and novelty lighters to protect consumers from risks of accidental deaths and burn injuries associated with those lighters. More specifically, the Commission uses this information to determine whether lighters comply with the standard by resisting operation by young children. The Commission also uses this information to obtain corrective actions if disposable or novelty lighters fail to comply with the standard in a manner that creates a substantial risk of injury to the public.

OMB approved the collection of information in the certification regulations for cigarette lighters under control number 3041-0116. OMB's most recent extension of approval will expire on September 30, 2009. The Commission proposes to request an extension of approval for this collection of information requirements.

B. Estimated Burden

The cost of the rule's testing requirement is the cost of testing, either by the firm or by outside contractors. For the last two complete fiscal years (2007 and 2008) the total number of new lighter models submitted by firms to the CPSC has averaged about 20 per year. During that time, an annual average of 16 firms have submitted new lighter models. If tests are conducted through outside contractors, the cost per test has been estimated at $15,000 to $25,000 each, or $20,000 on average. If 20 total tests are done annually by outside contractors, the estimated cost is $400,000. If tests are conducted in-house, testing each new model is expected to take 90 hours. The total testing time for 20 new models, if conducted in-house, would be approximately 1,800 hours. Based on the average hourly total compensation of $54.88 (for management, professional, and related occupations in goods-producing industries, Bureau of Labor Statistics, September, 2008), the total industry cost of the testing component for this regulation would be in the range of $99,000 to $400,000 per year, depending on the method chosen.

The cost of the recordkeeping requirements has two separate components: Recordkeeping for new models and recordkeeping for comparable models. The time consumed in recordkeeping for new models has been estimated at 20 hours per model. Thus the total time consumed for recordkeeping of new models would be 400 hours (20 hours × 20 models). Based on the average hourly compensation of $27.14 (for sales and office workers in goods-producing industries, Bureau of Labor Statistics, September 2008), the cost of recordkeeping for new models would be about $11,000 annually (400 hours × $27.14).

Time consumed in recordkeeping for lighters that are submitted for comparison to previously tested models will require approximately 3 hours for each model. For the last two complete fiscal years, an annual average of 1,100 comparison lighters have been submitted to the CPSC. Thus, an estimated 3,300 hours may be required by the firms for recordkeeping regarding comparison lighters (1,100 models × 3 hours). Based on the average hourly compensation of $27.14, the estimated cost of recordkeeping regarding comparison lighters is $90,000 annually (3,300 hours × $27.14). The total recordkeeping costs associated with the lighter regulation would be approximately $101,000 ($11,000 + $90,000).

In addition, each firm will submit information to the CPSC regarding the new testing and comparison submissions totaling about 1,120 responses per year (20 models tested + 1,100 comparison models). The total number of hours for these responses would be approximately 5,500 per year including new-product testing (1,800 hours if done in-house), new product recordkeeping (400 hours), and recordkeeping for comparison lighters (3,300 hours). The Commission staff estimates the total cost for firms for testing, recordkeeping, and reporting to comply with the lighter regulation would be in the range of $200,000 to $501,000, depending upon the test method chosen.

The Commission staff will expend approximately 4 full-time-equivalent staff years to administer the rule. The annual cost to the Federal government of the collection of information in these regulations is estimated to be $664,000.

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: June 30, 2009.
Todd A. Stevenson,
Secretary, Consumer Product Safety Commission.

[FR Doc. E9-16012 Filed 7-7-09; 8:45 am]

BILLING CODE 6355-01-P